DEPARTMENT OF TRANSPORTATION

Federal Aviation Administration

Notice of Intent To Rule on Application To Impose and Use the Revenue From a Passenger Facility Charge (PFC) at Mobile Regional Airport, Mobile, AL

AGENCY: Federal Aviation Administration (FAA), DOT.

ACTION: Notice of intent to rule on application.

SUMMARY: The FAA proposes to rule and invites public comment on the application to impose and use the revenue from a PFC at Mobile Regional Airport under the provisions of the Aviation Safety and Capacity Expansion Act of 1990 (Title IX of the Omnibus Budget Reconciliation Act of 1990) (Pub. L. 101-508) and part 158 of the Federal Aviation Regulations (14 CFR part 158).

DATES: Comments must be received on or before December 7, 2001.

ADDRESSES: Comments on this application may be mailed or delivered in triplicate to the FAA at the following address: Jackson Airports District Office, Jackson International Airport, 100 West Cross Street, suite B, Jackson, MS 39208-2307.

In addition, one copy of any comments submitted to the FAA must be mailed or delivered to Mr. Thomas G. Hughes, Acting Airport Manager of the Mobile Airport Authority at the following address: Mr. Thomas G. Hughes, Acting Airport Manager, Mobile Airport Authority, P.O. Box 88004, Mobile, AL 36608-0004.

Air carriers and foreign air carriers may submit copies of written comments previously provided to the Mobile Airport Authority under § 158.23 of part 158.

FOR FURTHER INFORMATION CONTACT: William Schuller, Program Manager, Jackson Airports District Office, Jackson International Airport, 100 West Cross Street, Suite B, Jackson, MS 39208-2307, (601) 664-9883. The application may be reviewed in person at this same location.

SUPPLEMENTARY INFORMATION: The FAA proposes to rule and invites public comment on the application to impose and use the revenue from a PFC at Mobile Regional Airport under the provisions of the Aviation Safety and Capacity Expansion Act of 1990 (Title IX of the Omnibus Budget Reconciliation Act of 1990) (Pub. L. 101-508) and part 158 of the Federal Aviation Regulations (14 CFR part 158).

On October 22, 2001, the FAA determined that the application to impose and use the revenue from a PFC submitted by Mobile Airport Authority was substantially complete within the requirements of § 158.25 of part 158. The FAA will approve or disapprove the application, in whole or in part, no later than February 10, 2002.

The following is a brief overview of the application.

PFC Application No.: 02-04-C-00-MOB.

Level of the proposed PFC: $3.00.

Proposed charge effective date: March 1, 2002.

Proposed charge expiration date: July 31, 2005.

Total estimated net PFC revenue: $3,998,879.

Brief description of proposed project(s): Flight Information Display System; two Jet Bridges; Escalator; Public Address System; Bag Belt System; Terminal Roof Replacement; Terminal Cooling System Replacement; Land Acquisition; Security Fence; Airfield Signage; Airfield Marking; Airfield Generator; Terminal Signs; ARFF Vehicle; part 150 Noise Study Update.

Class or classes of air carriers which the public agency has requested not be required to collect PFCs: Air taxi/commercial operators (ATCO) that file FAA Form 1800-31.

Any person may inspect the application in person at the FAA office listed above under FOR FURTHER INFORMATION CONTACT.

In application, any person may, upon request, inspect the application, notice and other documents germane to the application in person at the Mobile Regional Airport.

Issued in Jackson, MS on October 24, 2001.
David Shumate,
Acting Manager, Jackson Airports District Office, Southern Region.

[FR Doc. 01-27995 Filed 11-6-01; 8:45 am]

BILLING CODE 4910-13-M